NATIONAL FOUNDATION ON THE ARTS AND HUMANITIES

Submission for OMB Review; Comment Request

AGENCY: National Endowment for the Humanities, National Foundation on the Arts and the Humanities.

ACTION: Notice; request for comment.

SUMMARY: Pursuant to the Paperwork Reduction Act of 1995, the National Endowment for the Humanities (NEH) will submit to the Office of Management and Budget (OMB) a request for approval of the information collection request (ICR) described below.

DATES: Comments on this ICR must be submitted on or before May 25, 2018.

ADDRESSES: Submit written comments to the Office of Information and Regulatory Affairs, Office of Management and Budget, 725 17th Street NW, Washington, DC 20503, Attention: Desk Officer for the National Endowment for the Humanities; or by email to oira_submission@omb.eop.gov; or by fax to (202) 395-6974.

FOR FURTHER INFORMATION CONTACT: Contact Mr. Joel Schwartz, Chief Guidelines Officer, National Endowment for the Humanities, at jschwartz@neh.gov, for further information or for a copy of this ICR and applicable supporting documentation.

SUPPLEMENTARY INFORMATION: NEH first published notice of its intent to seek OMB approval for this ICR in the Federal Register of February 14, 2018 (83 FR 6615). This ICR requests OMB approval for a three-year extension of NEH's currently approved generic clearance authority for all NEH information collections other than one-time evaluations, questionnaires, and surveys. Generic clearance authority would cover forms and instructions for applications to NEH grant programs; and reporting forms for NEH grantees, panelists, and reviewers, and for program evaluation purposes. OMB is particularly interested in comments about this ICR which help the agency to: (1) Evaluate whether the proposed collection of information is necessary for the proper performance of the functions of the agency, including whether the information will have practical utility; (2) evaluate the accuracy of the agency's estimate of the burden of the proposed collection of information, including the validity of the methodology and assumptions used; (3) enhance the quality, utility, and clarity of the information to be collected; and (4) minimize the burden of the collection of information on those who are to respond, including through the use of appropriate information technology (e.g., permitting electronic submission of responses).

This Notice also lists the following information:

Agency: National Endowment for the Humanities.

Title of Proposal: Generic Clearance Authority for the National Endowment for the Humanities.

Type of Review: Extension of a currently approved collection.

OMB Number: 3136-0134.

Affected Public: Applicants to NEH grant programs, reviewers of NEH grant applications, and NEH award recipients.

Total Respondents: 7,815.

Frequency of Collection: On occasion.

Average Time per Response: Varies according to type of information collection.

Estimated Total Burden Hours: 88,885 hours.

Total Annualized Capital/Startup Costs: 0.

Total Annual Costs (operating/maintaining systems or purchasing services): 0.

Comments submitted in response to this notice will become a matter of public record.

Jon Parrish Peede,
Senior Deputy Chairman.

[FR Doc. 2018-08541 Filed 4-24-18; 8:45 am]

BILLING CODE 7536-01-P